DEPARTMENT OF TRANSPORTATION

Federal Aviation Administration

14 CFR Part 39

[Docket No. FAA-2020-0460; Product Identifier 2018-SW-078-AD]

RIN 2120-AA64

Airworthiness Directives; Leonardo S.p.A. Helicopters

AGENCY: Federal Aviation Administration (FAA), DOT.

ACTION: Notice of proposed rulemaking (NPRM).

SUMMARY: The FAA proposes to adopt a new airworthiness directive (AD) for Leonardo S.p.A. Model AW169 and AW189 helicopters. This proposed AD was prompted by a report of a broken extrusion rubber window seal. This proposed AD would require installation of a reinforcement around the rubber filler wedge where the extrusion rubber window seal meets the door's emergency exit handle. The FAA is proposing this AD to address the unsafe condition on these products.

DATES: The FAA must receive comments on this proposed AD by July 20, 2020.

ADDRESSES: You may send comments, using the procedures found in 14 CFR 11.43 and 11.45, by any of the following methods:

• Federal eRulemaking Portal: Go to https://www.regulations.gov. Follow the instructions for submitting comments.

• Fax: 202-493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

For service information identified in this NPRM, contact Leonardo S.p.A. Helicopters, Emanuele Bufano, Head of Airworthiness, Viale G.Agusta 520, 21017 C.Costa di Samarate (Va) Italy; telephone +39-0331-225074; fax +39-0331-229046; or at https://www.leonardocompany.com/en/home. You may view this service information at the FAA, Office of the Regional Counsel, Operational Safety Branch, 10101 Hillwood Pkwy., Room 6N-321, Fort Worth, TX 76177.

Examining the AD Docket

You may examine the AD docket on the internet at https://www.regulations.gov by searching for and locating Docket No. FAA-2020-0460; or in person at Docket Operations between 9 a.m. and 5 p.m., Monday through Friday, except Federal holidays. The AD docket contains this NPRM, the Mandatory Continuing Airworthiness Information (MCAI), any comments received, and other information. The street address for Docket Operations is listed above. Comments will be available in the AD docket shortly after receipt.

FOR FURTHER INFORMATION CONTACT: Kristi Bradley, Aviation Safety Engineer, Safety Management Section, Rotorcraft Standards Branch, FAA, 10101 Hillwood Pkwy., Fort Worth, TX 76177; telephone 817-222-5110; email kristin.bradley@faa.gov.

SUPPLEMENTARY INFORMATION:

Comments Invited

The FAA invites you to send any written relevant data, views, or arguments about this proposal. Send your comments to an address listed under the ADDRESSES section. Include “Docket No. FAA-2020-0460; Product Identifier 2018-SW-078-AD” at the beginning of your comments. The FAA specifically invites comments on the overall regulatory, economic, environmental, and energy aspects of this NPRM. The FAA will consider all comments received by the closing date and may amend this NPRM because of those comments.

The FAA will post all comments received, without change, to https://www.regulations.gov, including any personal information you provide. The FAA will also post a report summarizing each substantive verbal contact received about this NPRM.

Discussion

The European Aviation Safety Agency (now European Union Aviation Safety Agency) (EASA), which is the Technical Agent for the Member States of the European Union, has issued EASA AD 2018-0197, dated September 5, 2018 (referred to after this as “the MCAI”), to correct an unsafe condition for all Leonardo S.p.A. Model AW169 helicopters and certain Leonardo S.p.A Model AW189 helicopters. EASA advises of a broken extrusion rubber window seal, part number A417AF001WB. According to EASA, an investigation determined that the damage to the rubber filler wedge of the rubber window seal could have been caused by the excessive tension of the string applied during the installation of an affected emergency exit handle. EASA advises that this condition, if not corrected, could result in an excessive load to release the emergency exit window, possibly resulting in delayed evacuation of helicopter occupants during an emergency. EASA states that, due to design similarities, the same unsafe condition could exist or develop on certain Model AW189 helicopters. To correct this condition, EASA AD 2018-0197 requires installation of a reinforcement around the rubber filler wedge where the extrusion rubber window seal meets the door's emergency exit handle.

You may examine the MCAI in the AD docket on the internet at https://www.regulations.gov by searching for and locating Docket No. FAA-2020-0460.

Related Service Information Under 1 CFR Part 51

Leonardo Helicopters has issued Alert Service Bulletin 169-094, Revision A, dated August 13, 2018, and Alert Service Bulletin 189-170, dated July 25, 2018. This service information describes procedures for installation of a reinforcement around the rubber filler wedge where the extrusion rubber window seal meets the door's emergency exit handle. These documents are distinct since they apply to different aircraft models.

This service information is reasonably available because the interested parties have access to it through their normal course of business or by the means identified in the ADDRESSES section.

FAA's Determination

These products have been approved by the aviation authority of another country, and are approved for operation in the United States. Pursuant to the FAA's bilateral agreement with the State of Design Authority, the FAA has been notified of the unsafe condition described in the MCAI and service information referenced above. The FAA is proposing this AD after evaluating all the relevant information and determining the unsafe condition described previously is likely to exist or develop on other products of these same type designs.

Proposed Requirements of This NPRM

This proposed AD would require accomplishing the actions specified in the service information described previously.

Costs of Compliance

The FAA estimates that this proposed AD affects 10 helicopters of U.S. registry. The FAA estimates the following costs to comply with this proposed AD:

Estimated Costs for Required Actions
Labor cost | Parts cost | Cost per product | Cost on U.S. operators
Up to 6 work-hours × $85 per hour = Up to $510 | $0 | Up to $510 | Up to $5,100.

According to the manufacturer, some or all of the costs of this proposed AD may be covered under warranty, thereby reducing the cost impact on affected individuals. The FAA does not control warranty coverage for affected individuals. As a result, the FAA has included all known costs in this cost estimate.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA has determined that this proposed AD would not have federalism implications under Executive Order 13132. This proposed AD would not have a substantial direct effect on the States, on the relationship between the national Government and the States, or on the distribution of power and responsibilities among the various levels of government.

For the reasons discussed above, I certify this proposed regulation:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Leonardo S.p.A.: Docket No. FAA-2020-0460; Product Identifier 2018-SW-078-AD.

(a) Comments Due Date

The FAA must receive comments by July 20, 2020.

(b) Affected ADs

None.

(c) Applicability

This AD applies to the Leonardo S.p.A. helicopters identified in paragraphs (c)(1) and (2) of this AD, certificated in any category, equipped with an affected part defined as internal emergency exit handle, part number (P/N) 8G9500L00151, and external emergency exit handle, P/N 8G9500L00251.

(1) Model AW169 helicopters, all serial numbers.

(2) Model AW189 helicopters, all serial numbers, except those helicopters with emergency exit windows equipped with strap P/N A487A003A, or helicopters with bubble windows P/N 8G5620F00112.

(d) Subject

Joint Aircraft Service Component (JASC) Code 5600, Windows.

(e) Reason

This AD was prompted by a report of a broken extrusion rubber window seal; an investigation determined the likely cause was excessive tension of the string applied during the installation of an affected emergency exit handle. The FAA is issuing this AD to address this condition, which, if not addressed, could result in an excessive load required to release the emergency exit window, possibly resulting in delayed evacuation of helicopter occupants during an emergency.

(f) Compliance

Comply with this AD within the compliance times specified, unless already done.

(g) Modification

(1) For Leonardo S.p.A. Model AW169 helicopters equipped with a passenger sliding door configuration, cabin main assembly P/N 6F5330A00131 or P/N 6F5330A00132: Within 750 hours time-in-service (TIS) or 24 months, whichever occurs first after the effective date of this AD, install the retro-modification P/N 6F5600P00111 on the rubber filler wedge of all affected emergency exit handles in accordance with Part I, Steps 1 through 8 of the Accomplishment Instructions of Leonardo Helicopters Alert Service Bulletin 169-094, Revision A, dated August 13, 2018, except you are required to replace the affected emergency exit handles and are not required to discard the filler wedges.

(2) For Leonardo S.p.A. Model AW169 helicopters equipped with a passenger hinged door configuration, cabin main assembly VIP P/N 6F5330A00831: Within 750 hours TIS or 24 months, whichever occurs first after the effective date of this AD, install the retro-modification P/N 6F5600P00111 on the rubber filler wedge of all affected emergency exit handles in accordance with Part II, steps 1 through 6 of the Accomplishment Instructions of Leonardo Helicopters Alert Service Bulletin 169-094, Revision A, dated August 13, 2018, except you are required to replace the affected emergency exit handles and are not required to discard the filler wedges.

(3) For Leonardo S.p.A. Model AW189 helicopters: Within 750 hours TIS or 24 months, whichever occurs first after the effective date of this AD, install the retro-modification P/N 8G5600P00211 on the rubber filler wedge of all affected emergency exit handles in accordance with steps 1 through 11 of the Accomplishment Instructions of Leonardo Helicopters Alert Service Bulletin 189-170, dated July 25, 2018, except you are required to replace the affected emergency exit handles and are not required to discard the filler wedges.

(h) Alternative Methods of Compliance (AMOCs)

(1) The Manager, Safety Management Section, Rotorcraft Standards Branch, FAA, may approve AMOCs for this AD. Send your proposal to: Kristi Bradley, Aviation Safety Engineer, Safety Management Section, Rotorcraft Standards Branch, FAA, 10101 Hillwood Pkwy., Fort Worth, TX 76177; telephone 817-222-5110; email 9-ASW-FTW-AMOC-Requests@faa.gov.

(2) For operations conducted under a 14 CFR part 119 operating certificate or under 14 CFR part 91, subpart K, notify your principal inspector or lacking a principal inspector, the manager of the local flight standards district office or certificate holding district office, before operating any aircraft complying with this AD through an AMOC.

(i) Related Information

(1) The subject of this AD is addressed in European Aviation Safety Agency (now European Union Aviation Safety Agency) (EASA) AD 2018-0197, dated September 5, 2018. This EASA AD may be found in the AD docket on the internet at https://www.regulations.gov by searching for and locating Docket No. FAA-2020-0460.

(2) For service information identified in this AD, contact Leonardo S.p.A. Helicopters, Emanuele Bufano, Head of Airworthiness, Viale G.Agusta 520, 21017 C.Costa di Samarate (Va) Italy; telephone +39-0331-225074; fax +39-0331-229046; or at https://www.leonardocompany.com/en/home. You may view this service information at the FAA, Office of the Regional Counsel, Operational Safety Branch, 10101 Hillwood Pkwy., Room 6N-321, Fort Worth, TX 76177.

Issued on May 27, 2020.
Lance T. Gant,
Director, Compliance & Airworthiness Division, Aircraft Certification Service.

[FR Doc. 2020-11822 Filed 6-2-20; 8:45 am]

BILLING CODE 4910-13-P